DEPARTMENT OF COMMERCE

International Trade Administration

[C-580-898]

Large Diameter Welded Pipe From the Republic of Korea: Final Results of Countervailing Duty Administrative Review; 2020

AGENCY: Enforcement and Compliance, International Trade Administration, Department of Commerce.

SUMMARY: The U.S. Department of Commerce (Commerce) determines that producers and/or exporters of large diameter welded pipe (welded pipe) from the Republic of Korea (Korea) received countervailable subsidies during the period of review (POR), January 1, 2020, through December 31, 2020.

DATES: Applicable November 3, 2022.

FOR FURTHER INFORMATION CONTACT: Dennis McClure or Jonathan Schueler, AD/CVD Operations, Office VIII, Enforcement and Compliance, International Trade Administration, U.S. Department of Commerce, 1401 Constitution Avenue NW, Washington, DC 20230; telephone: (202) 482-5973 or (202) 482-9175, respectively.

SUPPLEMENTARY INFORMATION:

Background

On June 3, 2022, Commerce published the Preliminary Results of this administrative review in the Federal Register,¹ and invited interested parties to comment. On July 12, 2022, the Government of Korea (GOK), Hyundai RB Co., Ltd. (Hyundai RB), and SeAH Steel Corporation (SeAH Steel) submitted timely case briefs.² On July 19, 2022, the American Line Pipe Producers Association Trade Committee (the Committee) submitted a timely rebuttal brief.³ On September 20, 2022, Commerce extended the deadline for the final results of this review to no later than October 28, 2022.⁴ Commerce held a public hearing on September 7, 2022.⁵ For a complete description of the events that followed the Preliminary Results, see the Issues and Decision Memorandum.⁶ We conducted this review in accordance with section 751 of the Tariff Act of 1930, as amended (the Act).

¹ See Large Diameter Welded Pipe from the Republic of Korea: Preliminary Results and Partial Rescission of the Countervailing Duty Administrative Review; 2020, 87 FR 33715 (June 3, 2022) (Preliminary Results).

² See GOK's Letter, “GOK Case Brief,” dated July 12, 2022; see also Hyundai RB's Letter, “Hyundai RB Case Brief,” dated July 12, 2022; and SeAH's Letter, “Case Brief,” dated July 12, 2022.

³ See Committee's Letter, “Rebuttal Brief,” dated July 19, 2022.

⁴ See Memorandum, “Extension of Deadline for Final Results,” dated September 20, 2022.

⁵ See Hearing Transcript, “In the Matter of: the Administrative Review of the Antidumping Duty Order on Large Diameter Welded Carbon and Alloy Steel Line and Structural Pipe from the Republic of Korea,” dated September 14, 2022.

⁶ See Memorandum, “Issues and Decision Memorandum for the Final Results of the Countervailing Duty Administrative Review of Large Diameter Welded Pipe from the Republic of Korea; 2020,” dated concurrently with, and hereby adopted by, this notice (Issues and Decision Memorandum).

Scope of the Order ⁷

⁷ See Large Diameter Welded Pipe from the Republic of Korea: Countervailing Duty Order, 84 FR 18773 (May 2, 2019) (Order).

The merchandise covered by the Order is large diameter welded pipe. For a complete description of the scope of the Order, see the Issues and Decision Memorandum.

Analysis of Comments Received

All issues raised in interested parties' briefs are addressed in the Issues and Decision Memorandum. A list of the issues addressed in the Issues and Decision Memorandum is included in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of the case and rebuttal briefs and the evidence on the record, we made no changes from the Preliminary Results.

Companies Not Selected for Individual Review

We made no changes to the methodology for determining a rate for companies not selected for individual examination from the Preliminary Results. For the final results of this review, as indicated in the section below, we have continued to determine that only the mandatory respondent Hyundai RB received countervailable subsidies that are above de minimis. Therefore, consistent with section 705(c)(5)(A) of the Act, we are applying the net subsidy rate calculated for Hyundai RB to the non-selected companies.

Final Results of Administrative Review

In accordance with 19 CFR 351.221(b)(5), we calculated an individual net countervailable subsidy rate for Hyundai RB and SeAH Steel Corporation. Commerce determines that, during the POR, the net countervailable subsidy rates for the producers/exporters under review are as follows:

Producer/exporter | Subsidy rate (percent ad valorem)
Hyundai RB Co., Ltd | 1.66
SeAH Steel Corporation ¹ | * 0.31
Review-Specific Average Rate Applicable to the Following Companies
Chang Won Bending Co., Ltd | 1.66
Dong Yang Steel Pipe Co., Ltd | 1.66
EEW Korea Co., Ltd | 1.66
HiSteel Co., Ltd | 1.66
¹ As discussed in the Preliminary Decision Memorandum, Commerce has found the following companies to be cross-owned with SeAH Steel Corporation: SeAH Holdings Corporation and ESAB SeAH Corporation. The subsidy rates apply to all cross-owned companies.
* De minimis.

Disclosure

Normally, Commerce discloses to interested parties the calculations performed in connection with the final results of review within five days of a public announcement or, if there is no public announcement, within five days of the date of publication of the notice of final results in the Federal Register, in accordance with 19 CFR 351.224(b). However, because we have made no changes from the Preliminary Results, there are no calculations to disclose.

Assessment Rates

Pursuant to 19 CFR 351.212(b)(2), Commerce will determine, and U.S. Customs and Border Protection (CBP) shall assess, countervailing duties on all appropriate entries of subject merchandise in accordance with the final results of this review, for the above-listed companies at the applicable ad valorem assessment rates. We intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Instructions

In accordance with section 751(a)(1) of the Act, Commerce intends to instruct CBP to collect cash deposits of estimated countervailing duties in the amounts shown for each of the respective companies listed above based on shipments of subject merchandise entered, or withdrawn from warehouse, for consumption on or after the date of publication of the final results of this administrative review. For all non-reviewed firms subject to the Order, we will instruct CBP to continue to collect cash deposits of estimated countervailing duties at the most recent company-specific rate or the all-others rate (9.29 percent), as appropriate.⁸ These cash deposit requirements, effective upon publication of these final results, shall remain in effect until further notice.

⁸ See Order, 84 FR 18775.

Administrative Protective Order

This notice also serves as a reminder to parties subject to an administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these final results in accordance with sections 751(a)(1) and 777(i) of the Act.

Dated: October 28, 2022.
Lisa W. Wang,
Assistant Secretary for Enforcement and Compliance.

Appendix

List of Topics Discussed in the Issues and Decision Memorandum

I. Summary

II. Background

III. Scope of the Order

IV. Subsidies Valuation Information

V. Analysis of Programs

VI. Discussion of the Comments

Comment 1: Whether the Demand Response Resources (DRR) Program Is Countervailable

Comment 2: Whether Restriction of Special Taxation Act (RSTA) Article 7 Is De Jure Specific

Comment 3: Whether Certain Programs Are De Facto Specific

Comment 4: Whether the Energy Storage Systems (ESS) Program Is Specific

Comment 5: Whether to Allocate Benefits from the Process Quality Technology Development Project to the POR

Comment 6: Whether the Employment Security Improvement (ESI) Program Is Countervailable

VII. Recommendation

[FR Doc. 2022-23920 Filed 11-2-22; 8:45 am]

BILLING CODE 3510-DS-P